DEPARTMENT OF THE INTERIOR

Bureau of Land Management

[ID-102-2822-JS-C3MG, DBG-07-1001]

Notice of Two-Year, Temporary Emergency Closure to motorized vehicle use on the Cherry and Frenchie Fires in Gem, Payette, and Washington Counties, ID

AGENCY: Bureau of Land Management, Interior.

ACTION: Notice.

SUMMARY: 43 CFR Subpart 8364—Closure and Restrictions, 8364.1 (a) states: “To protect persons, property, and public lands and resources, the authorized officer may issue an order to close or restrict use of designated public lands.” In coordination with several livestock grazing permittees and the Idaho Department of Fish and Game, all BLM-administered roads within the Cherry and Frenchie Fires of 2006 will be closed to all motorized vehicle travel (e.g., all-terrain vehicles, pickup trucks, motorcycles, sport utility vehicles, snowmobiles, etc.), including existing roads and two-tracks within the perimeter. This action is necessary for the protection of watershed resources and highly erosive soils to allow adequate time to allow for the rehabilitation of the burned area. No motorized vehicle travel into these areas will be allowed, including motorized travel for purposes of retrieval of big game, unless specifically authorized (in writing) by the authorized officer (BLM Four Rivers Field Office Manager).

The following acts are exempt from this action: (1) Access within the area by other means (e.g., foot or horseback); (2) persons with a BLM permit or contract specifically authorizing motor vehicle use; (3) owners or lessees of land in the closed area with written authorization; (4) any BLM employee or livestock grazing permittee providing maintenance to a structure or facility; and (5) any Federal, State, or local officer, or member of an organized rescue or fire fighting force in the performance of an official duty. Extension of the closure order may occur if it is determined that the rehabilitation of the burned area has not been successful. Once rehabilitation of the burned area is determined to be successful, motorized vehicle access will resume in accordance with the 1988 Cascade Resource Management Plan (RMP) Record of Decision (ROD), opening the area to off-road vehicle use, providing no resource damage occurs. Roads and fire lines will be appropriately signed to inform the public of the closure. This closure will affect the following areas:

Cherry Fire—29,342 Acres

Township 11N, Range 01E, section 35

Township 10N, Range 01E, sections 01-05, 07-11, 14-23, 27-34

Township 10N, Range 01W, section 36

Township 09N, Range 01E, sections 03-11, 14-22, 27-34

Township 09N, Range 01W, sections 01, 12-14, 21-29, 32-36

Township 08N, Range 01E, sections 03-10, 16-21, 28-32

Township 08N, Range 01W, sections 01-05, 08-29, 34-36

Frenchie Fire—6,547 Acres

Township 11N, Range 01W, sections 14, 15, 22, 23, 26-28, 31-35

Township 10N, Range 01W, sections 02-11, 14-16

Township 10N, Range 02W, section 01

DATES: This emergency closure will be effective immediately and will remain in effect until September 12, 2008. Following the 2-year closure period, road closures after September 12, 2008, will be revisited and decided upon by the authorized officer at that time.

FOR FURTHER INFORMATION CONTACT: Chris Robbins, Rangeland Management Specialist/Wild Horse and Burro Specialist (208 384-3348), or Mike Barnum, Rangeland Management Specialist (208 384-3218), Bureau of Land Management, 3948 Development Ave., Boise, ID 83705.

SUPPLEMENTARY INFORMATION: The BLM Four Rivers Field Office is responsible for management of public lands within Ada, Adams, Boise, Canyon, Elmore, Gem, Owyhee, Payette, Valley, and Washington Counties. The management of these lands is addressed in the Cascade RMP ROD, which was signed in 1988. The Cherry Fire started on August 10, 2006, and burned 54,350 acres, of which 29,342 acres are public lands. It was declared contained on August 16, 2006. The Frenchie Fire started on August 21, 2006, and burned 10,610 acres, of which 6,547 acres are public lands. The Frenchie Fire was contained on August 23, 2006. This Emergency Closure is necessary to protect the watershed and allow adequate time for the rehabilitation of the burned area within the Cherry and Frenchie Fires.

Authority for this restriction order is contained in CFR Title 43, Subpart 8341.2 and complies with CFR Title 43, Subpart 8364.1 Closure and Restriction Orders. In accordance with CFR Title 43, Subpart 8360.0-7, and is punishable by a fine not to exceed $1,000 and/or imprisonment not to exceed 12 months.

Maps of this emergency closure area will be available at the Boise District Office, 3948 Development Ave., Boise, ID 83705.

Rosemary Thomas,
Field Office Manager, Four Rivers Field Office.

[FR Doc. E6-22062 Filed 12-22-06; 8:45 am]

BILLING CODE 4310-GG-P